DEPARTMENT OF TRANSPORTATION

Federal Motor Carrier Safety Administration

[Docket ID. FMCSA-2008-0231]

Qualification of Drivers; Exemption Applications; Vision

AGENCY: Federal Motor Carrier Safety Administration (FMCSA), DOT.

ACTION: Notice of applications for exemptions; request for comments.

SUMMARY: FMCSA announces receipt of applications from 23 individuals for exemptions from the vision requirement in the Federal Motor Carrier Safety Regulations. If granted, the exemptions would enable these individuals to qualify as drivers of commercial motor vehicles (CMVs) in interstate commerce without meeting the Federal vision standard.

DATES: Comments must be received on or before September 11, 2008.

ADDRESSES: You may submit comments bearing the Federal Docket Management System (FDMS) Docket ID FMCSA-2008-0231 using any of the following methods:

• Federal eRulemaking Portal: Go to http://www.regulations.gov. Follow the on-line instructions for submitting comments.

• Mail: Docket Management Facility; U.S. Department of Transportation, 1200 New Jersey Avenue, SE., West Building, Ground Floor, Room W12-140, Washington, DC 20590-0001.

• Hand Delivery: West Building, Ground Floor, Room W12-140, 1200 New Jersey Avenue, SE., Washington, DC, between 9 a.m. and 5 p.m., Monday through Friday, except Federal Holidays.

• Fax: 1-202-493-2251.

Each submission must include the Agency name and the docket ID for this Notice. Note that DOT posts all comments received without change to http://www.regulations.gov, including any personal information included in a comment. Please see the Privacy Act heading below.

Docket: For access to the docket to read background documents or comments, go to http://www.regulations.gov at any time or Room W12-140 on the ground level of the West Building, 1200 New Jersey Avenue, SE., Washington, DC, between 9 a.m. and 5 p.m., Monday through Friday, except Federal holidays. The FDMS is available 24 hours each day, 365 days each year. If you want acknowledgment that we received your comments, please include a self-addressed, stamped envelope or postcard, or print the acknowledgement page that appears after submitting comments on-line.

Privacy Act: Anyone may search the electronic form of all comments received into any of our dockets by the name of the individual submitting the comment (or of the person signing the comment, if submitted on behalf of an association, business, labor union, etc.). You may review the DOT's complete Privacy Act Statement in the Federal Register published on April 11, 2000 (65 FR 19476). This information is also available at http://Docketsinfo.dot.gov.

FOR FURTHER INFORMATION CONTACT: Dr. Mary D. Gunnels, Director, Medical Programs, (202) 366-4001, fmcsamedical@dot.gov, FMCSA, Department of Transportation, 1200 New Jersey Avenue, SE., Room W64-224, Washington, DC 20590-0001. Office hours are from 8:30 a.m. to 5 p.m., Monday through Friday, except Federal holidays.

SUPPLEMENTARY INFORMATION:

Background

Under 49 U.S.C. 31136(e) and 31315, FMCSA may grant an exemption for a 2-year period if it finds “such exemption would likely achieve a level of safety that is equivalent to, or greater than, the level that would be achieved absent such exemption.” FMCSA can renew exemptions at the end of each 2-year period. The 23 individuals listed in this notice each have requested an exemption from the vision requirement in 49 CFR 391.41(b)(10), which applies to drivers of CMVs in interstate commerce. Accordingly, the Agency will evaluate the qualifications of each applicant to determine whether granting the exemption will achieve the required level of safety mandated by statute.

Qualifications of Applicants

William C. Ball

Mr. Ball, age 39, has had amblyopia in his right eye since childhood. The best corrected visual acuity in his right is eye is 20/200 and in the left, 20/20. Following an examination in 2008 his ophthalmologist noted, “I certify in my medical opinion that Mr. Ball has sufficient vision to perform the driving task required to operate a commercial vehicle.” Mr. Ball reported that he has driven straight trucks for 4½ years, accumulating 146,250 miles. He holds a Class A Commercial Driver's License (CDL) from North Carolina. His driving record for the last 3 years shows no crashes and no convictions for moving violations in a CMV.

Terrence L. Benning

Mr. Benning, 53, has aphakia in his left eye due to a traumatic injury he sustained as a child. The best corrected visual acuity in his right eye is 20/25 and in the left, hand-motion vision. Following an examination in 2008, his ophthalmologist noted, “Based on the fact that he has recently been functioning well driving a commercial vehicle, it is my medical opinion that he does have sufficient vision to operate a commercial vehicle.” Mr. Benning reported that he has driven straight trucks for 10 years, accumulating 250,000 miles, and tractor-trailer combinations for 25 years, accumulating 2.9 million miles. He holds a Class A CDL from Wisconsin. His driving record for the last 3 years shows no crashes and no convictions for moving violations in a CMV.

Rickie L. Boone

Mr. Boone, 48, has loss of vision in his right eye due to a detached retina which occurred in 2001. The visual acuity in his right eye is light perception and in the left, 20/20. Following an examination in 2008, his optometrist noted, “In my medical opinion, Mr. Boone is able to perform the driving tasks required to operate a commercial vehicle.” Mr. Boone reported that he has driven straight trucks for 28 years, accumulating 1.1 million miles, and tractor-trailer combinations for 28 years, accumulating 1.1 million miles.

He holds a Class A CDL from North Carolina. His driving record for the last 3 years shows no crashes and no convictions for moving violations in a CMV.

Robert S. Bowen

Mr. Bowen, 49, has had a prosthetic left eye due to a history of melanoma since 1994. The best corrected visual acuity in his right eye is 20/20. Following an examination in 2008, his optometrist noted, “It is my opinion that Mr. Bowen is visually qualified to perform the tasks necessary to operate a commercial vehicle.” Mr. Bowen reported that he has driven tractor-trailer combinations for 31 years, accumulating 2.5 million miles. He holds a Class A CDL from Georgia. His driving record for the last 3 years shows one crash, for which he was not cited, and no convictions for moving violations in a CMV.

Dennis R. Buszkiewicz

Mr. Buszkiewicz, 55, has had amblyopia in his left eye since childhood. The best corrected visual acuity in his right eye is 20/20 and in the left, 20/50. Following an examination in 2008, his ophthalmologist noted, “I certify that Dennis R. Buszkiewicz has sufficient vision to perform the driving tasks required to operate a commercial vehicle.” Mr. Buszkiewicz reported that he has driven straight trucks for 35 years, accumulating 1 million miles. He holds a Class B CDL from Illinois. His driving record for the last 3 years shows no crashes and no convictions for moving violations in a CMV.

Larry T. Byrley

Mr. Byrley, 62, has had a macular scar in his left eye since birth. The best corrected visual acuity in his right eye is 20/20 and in the left, 20/200. Following an examination in 2008, his ophthalmologist noted, “The patient has a long standing loss of vision in the left eye. This should pose no problem in him driving a commercial vehicle.” Mr. Byrley reported that he has driven straight trucks for 5 years, accumulating 150,000 miles, and tractor-trailer combinations for 11 years, accumulating 935,000 miles. He holds a Class A CDL from Ohio. His driving record for the last 3 years shows one crash, for which he was not cited, and no convictions for moving violations in a CMV.

Robert J. Clarke

Mr. Clarke, 51, has had amblyopia in his left eye since birth. The best corrected visual acuity in his right eye is 20/20 and in the left, 20/200. Following an examination in 2008, his optometrist noted, “It is my personal opinion that Mr. Clarke has sufficient vision to perform the driving tasks required to operate a commercial vehicle.” Mr. Clarke reported that he has driven straight trucks for 20 years, accumulating 728,000 miles. He holds a Class B CDL from New York. His driving record for the last 3 years shows no crashes and no convictions for moving violations in a CMV.

Eldon D. Cochran

Mr. Cochran, 71, has had amblyopia in his left eye since birth. The best corrected visual acuity in his right eye is 20/20 and in the left, 20/100. Following an examination in 2008, his optometrist noted, “I believe Mr. Cochran has sufficient vision to operate a commercial vehicle.” Mr. Cochran reported that he has driven straight trucks for 10 years, accumulating 208,000 miles, and tractor-trailer combinations for 26 years, accumulating 2 million miles. He holds a Class D operator's license from Alabama.

His driving record for the last 3 years shows one crash, for which he was not cited, and no convictions for moving violations in a CMV.

Alfred A. Constantino

Mr. Constantino, 59, has had amblyopia in his right eye since 1995. The best corrected visual acuity in his right eye is 20/60 and in the left, 20/25. Following an examination in 2008, his optometrist noted, “In my medical opinion Alfred Constantino has sufficient vision to perform the driving tasks required to operate a commercial vehicle.” Mr. Constantino reported that he has driven straight trucks for 40 years, accumulating 400,000 miles, and tractor-trailer combinations for 4 years, accumulating 10,000 miles. He holds a Class 10 operator's license from Rhode Island; this allows him to drive which allows him to operate any motor vehicle except a motorcycle and a vehicle that weighs more than 26,000 pounds, carries 16 or more passengers or transports placarded amounts of hazardous materials. His driving record for the last 3 years shows no crashes and no convictions for moving violations in a CMV.

James R. Corley

Mr. Corley, 65, has a prosthetic right eye due to a traumatic injury sustained as a child. The best corrected visual acuity in his left eye is 20/20. Following an examination in 2008, his ophthalmologist noted, “It is my opinion that if persons with one are eye are legal to operate a commercial vehicle, then Mr. Corley has sufficient visual ability to do so.” Mr. Corley reported that he has driven straight trucks for 19 years, accumulating 152,000 miles. He holds a Class B CDL from Alabama. His driving record for the last 3 years shows no crashes and no convictions for moving violations in a CMV.

Larry D. Curry

Mr. Curry, 57, has a complete loss of vision in his left eye due to a traumatic injury sustained as a child. The visual acuity in his right eye is 20/20. Following an examination in 2008, his optometrist noted, “It is my opinion that Mr. Curry does have sufficient vision to safely operate a commercial vehicle.” Mr. Curry reported that he has driven tractor-trailer combinations for 9 years, accumulating 900,000 miles. He holds a Class A CDL from Georgia. His driving record for the last 3 years shows no crashes and no convictions for moving violations in a CMV.

Brian F. Denning

Mr. Denning, 47, has had amblyopia in his right eye since childhood. The best corrected visual acuity in his right eye is 20/200 and in the left, 20/20. Following an examination in 2008, his optometrist noted, “It is my belief that Brian has sufficient vision to safely drive a commercial vehicle.” Mr. Denning reported that he has driven straight trucks for 23 years, accumulating 920,000 miles. He holds a Class A CDL from California. His driving record for the last 3 years shows no crashes and no convictions for moving violations in a CMV.

Michael W. Dillard

Mr. Dillard, 35, has hyperopia and astigmatism in his left eye since childhood. The best corrected visual acuity in his right eye is 20/20 and in the left, 20/50. Following an examination in 2008, his optometrist noted, “Mr. Dillard has sufficient visual acuity and fields to operate a tractor-trailer.” Mr. Dillard reported that he has driven straight trucks for 10 years, accumulating 555,000 miles, and tractor-trailer combinations for 4 years, accumulating 222,000 miles. He holds a Class A CDL from West Virginia. His driving record for the last 3 years shows no crashes and no convictions for moving violations in a CMV.

Kelly M. Greene

Mr. Greene, 46, has had a corneal scar and amblyopia in his left eye since childhood. The visual acuity in his right eye is 20/20 and in the left, 20/200. Following an examination in 2008, his ophthalmologist noted, “Patient has sufficient vision to perform driving tasks required to operate a commercial vehicle.” Mr. Greene reported that he has driven straight trucks for 15 years, accumulating 1.7 million miles. He holds a Class A CDL from Florida. His driving record for the last 3 years shows no crashes and two convictions for moving violations in a CMV; following another vehicle too closely, and speeding in a CMV. He exceeded the speed limit by 6 mph.

Sammy K. Hines

Mr. Hines, 60, has had amblyopia in his right eye since childhood. The best corrected visual acuity in his right eye is 20/400 and in the left, 20/20. Following an examination in 2008, his optometrist noted, “Based on the examination results, Mr. Hines has sufficient vision in both eyes to perform the driving tasks required to operate a commercial vehicle.” Mr. Hines reported that he has driven straight trucks for 18 years, accumulating 216,000 miles, and tractor-trailer combinations for 18 years, accumulating 216,000 miles. He holds a Class A CDL from Texas. His driving record for the last 3 years shows no crashes and no convictions for moving violations in a CMV.

John H. Holmberg

Mr. Holmberg, 63, has had amblyopia in his left eye since childhood. The best corrected visual acuity in his right eye is 20/20 and in the left, 20/70. Following an examination in 2008 his optometrist noted, “I would concur with these results and agree that Mr. Holmberg has adequate vision to operate a commercial vehicle.” Mr. Holmberg reported that he has driven straight trucks for 20 years, accumulating 50,000 miles. He holds a Class A CDL from Wisconsin. His driving record for the last 3 years shows no crashes and no convictions for moving violations in a CMV.

Gary R. Lomen

Mr. Lomen, 49, has had amblyopia in his left eye since childhood. The best corrected visual acuity in his right eye is 20/20 and in the left, 20/50. Following an examination in 2008, his optometrist noted, “In my opinion, Mr. Lomen can operate a commercial vehicle safely with his current vision, based on years of success with his visual condition.” Mr. Lomen reported that he has driven straight trucks for 16 years, accumulating 542,400 miles. He holds an operator's license from Washington. His driving record for the last 3 years shows no crashes and no convictions for moving violations in a CMV.

Leonardo Lopez, Jr.

Mr. Lopez, 36, has complete loss of vision in his right eye due to chronic retinal detachment. The best corrected visual acuity in his left eye is 20/30. Following an examination in 2007 his ophthalmologist noted, “I believe that Mr. Lopez has sufficient vision to perform driving tasks required to operate a commercial vehicle.” Mr. Lopez reported that he has driven straight trucks for 9 years, accumulating 126,000 miles. He holds a Class D operator's license from New Jersey. His driving record for the last 3 years shows no crashes and no convictions for moving violations in a CMV.

Jeffrey F. Meier

Mr. Meier, 50, has had a macular scar in his left eye due to toxoplasmosis since birth. The best corrected visual acuity in his right eye is 20/25 and in the left, 20/150. Following an examination in 2008 his ophthalmologist noted, “My opinion is that he has sufficient vision to operate a commercial vehicle.” Mr. Meier reported that he has driven straight trucks for 30 years, accumulating 675,000 miles. He holds a Class D operator's license from Iowa. His driving record for the last 3 years shows no crashes and no convictions for moving violations in a CMV.

James G. Mitchell

Mr. Mitchell, 41, has a prosthetic left eye due to a traumatic injury that occurred in 1993. The visual acuity in his left eye is 20/20. Following an examination in 2007 his optometrist noted, “I feel Mr. Mitchell is visually able to operate a motor vehicle in all lighting conditions with a driver's side mirror.” Mr. Mitchell reported that he has driven tractor-trailer combinations for 16 years, accumulating 2.2 million miles. He holds a Class D operator's license from Alabama. His driving record for the last 3 years shows no crashes and no convictions for moving violations in a CMV.

Billy R. Pierce

Mr. Pierce, 59, has a decreased right eye due to a severe infection that occurred in 2004. The best corrected visual acuity in his right eye is 20/20 and in the left, 20/400. Following an examination in 2008, his optometrist noted, “It is my opinion, that Mr. Pierce has the ability and visual ability to operate a commercial vehicle.” Mr. Pierce reported that he has driven straight trucks for 43 years, accumulating 1.3 million miles, and tractor-trailer combinations for 29 years, accumulating 435,000 miles. He holds a Class D operator's license from Alabama. His driving record for the last 3 years shows no crashes and no convictions for moving violations in a CMV.

James A. Rapp

Mr. Rapp, 46, has had loss of vision in his left eye due to childhood glaucoma. The visual acuity in his right eye is 20/20 and in the left, count-finger vision. Following an examination in 2008, his ophthalmologist noted, “In my opinion, he has sufficient vision to perform the driving tasks required to operate a commercial vehicle.” Mr. Rapp reported that he has driven straight trucks for 18 years, accumulating 374,400 miles. He holds a Class D operator's license from Ohio. His driving record for the last 3 years shows one crash, which he was cited for, and no other convictions for moving violations in a CMV.

Thomas P. Shank

Mr. Shank, 41, has had exotropia in his right eye since birth. The best corrected visual acuity in his right eye is count-finger vision and in the left, 20/16. Following an examination in 2008, his optometrist noted, “In my medical opinion, Mr. Shank has sufficient vision to perform the driving tasks required to operate a commercial vehicle at any time of day or night.” Mr. Shank reported that he has driven straight trucks for 5 years, accumulating 250,000 miles, and tractor-trailer combinations for 19 years, accumulating 1.7 million miles. He holds a Class A CDL from New York. His driving record for the last 3 years shows no crashes and two convictions for moving violations in a CMV; unsafe lane changes, and speeding in a CMV. He exceeded the speed limit by 9 mph.

Request for Comments

In accordance with 49 U.S.C. 31136(e) and 31315, FMCSA requests public comment from all interested persons on the exemption petitions described in this notice. The Agency will consider all comments received before the close of business September 11, 2008. Comments will be available for examination in the docket at the location listed under the ADDRESSES section of this notice. The Agency will file comments received after the comment closing date in the public docket, and will consider them to the extent practicable. In addition to late comments, FMCSA will also continue to file, in the public docket, relevant information that becomes available after the comment closing date. Interested persons should monitor the public docket for new material.

Issued on: August 7, 2008,
Larry W. Minor,
Associate Administrator for Policy and Program Development.

[FR Doc. E8-18613 Filed 8-11-08; 8:45 am]

BILLING CODE 4910-EX-P